DEPARTMENT OF JUSTICE

Federal Bureau of Investigation

[Docket No. FBI]

FBI's Criminal Justice Information Services Division User Fee Schedule

AGENCY: Federal Bureau of Investigation (FBI), Department of Justice.

ACTION: Notice.

SUMMARY: The FBI is authorized to establish and collect fees for providing fingerprint-based and name-based criminal history record information (CHRI) checks submitted by authorized users for noncriminal justice purposes including employment and licensing. A portion of the fee is intended to reimburse the FBI for the cost of providing fingerprint-based and name-based CHRI checks (“cost reimbursement portion” of the fee). The FBI is also authorized to charge an additional amount to defray expenses for the automation of fingerprint identification and criminal justice information services and associated costs (“automation portion” of the fee). Although the fee study determined that the allocation of costs changed, the overall fees for fingerprint-based and name-based CHRI checks will remain the same as the current user fees.

DATES: This revised fee schedule is effective October 1, 2022.

FOR FURTHER INFORMATION CONTACT: Mr. Timothy R. Wiles, Unit Chief, Fee Programs Unit, Resources Management Section, Criminal Justice Information Services (CJIS) Division, FBI, 1000 Custer Hollow Road, Module D-3, Clarksburg, WV 26306. Telephone number 304-625-4685.

SUPPLEMENTARY INFORMATION: Pursuant to the authority in Public Law (Pub. L.) 101-515, as amended and codified at Title 34, United States Code (U.S.C.) Section (§ ) 41104, the FBI has established user fees for authorized agencies requesting noncriminal justice, fingerprint-based and name-based CHRI checks. These noncriminal justice, fingerprint-based CHRI checks are performed for noncriminal justice, non-law enforcement employment and licensing purposes, and for certain employees of private sector contractors with classified government contracts. The noncriminal justice, name-based CHRI checks are biographic checks of the biometric system limited to those agencies authorized via 5 U.S.C. 9101, Security Clearance Information Act of 1985.

In accordance with the requirements of Title 28, Code of Federal Regulations (CFR), § 20.31(e), the FBI periodically reviews the process of providing fingerprint-based and name-based CHRI checks to determine the proper fee amounts which should be collected, and the FBI publishes any resulting fee adjustments in the Federal Register.

A fee study was conducted in keeping with 28 CFR 20.31(e)(2). The fee study determined that although the cost reimbursement portion of the expenses decreased by $1, the automation portion of the expenses increased by a similar amount. Accordingly, the fee study results recommend no overall change in the fingerprint-based and name-based CHRI checks from the current user fees published in the Federal Register on September 24, 2018 (83 FR 48335), which have been in effect since January 1, 2019. The FBI reviewed the results of the independently conducted User Fee Study, compared the recommendations to the current fee schedule, and determined the revised fee recommendation amounts for both the cost reimbursement portion and automation portion of the fee were reasonable and in consonance with the underlying legal authorities.

Pursuant to the recommendations of the study, the fees for fingerprint-based CHRI checks will be unchanged overall, and the fee for name-based CHRI checks will remain the same for federal agencies specifically authorized by statute (e.g., pursuant to the Security Clearance Information Act, 5 U.S.C. 9101).

The following tables detail the fee amounts for authorized users requesting fingerprint-based and name-based CHRI checks for noncriminal justice purposes, including the difference from the fee schedule currently in effect.

Fingerprint-Based CHRI Checks
Service | Fee currently in effect | Fee currently in effect for CBSPs ¹ | Change in fee amount | Revised fee (no change) | Revised fee for CBSPs (no change)
Fingerprint-based Submission | $13.25 | $11.25 | $0.00 | $13.25 | ² $11.25
Fingerprint-based Volunteer Submission ³ | 11.25 | 9.25 | 0.00 | 11.25 | ⁴ 9.25
¹ Centralized Billing Service Providers, see 75 FR 18753.
² Cost Recovery = $4.25; Automation = $7.00.
³ See e.g., 75 FR 18752.
⁴ Cost Recovery = $4.25; Automation = $5.00.

Name-Based CHRI Checks
Service | Fee currently in effect | Change in fee amount | Revised fee (no change)
Name-based Submission | $2.00 | $0.00 | $2.00

Dated: July 28, 2022.
Christopher A. Wray,
Director.

[FR Doc. 2022-16668 Filed 8-3-22; 8:45 am]

BILLING CODE 4410-02-P